DEPARTMENT OF HOMELAND SECURITY

Coast Guard

33 CFR Part 165

[Docket No. USCG-2023-0134]

Safety Zones; Annual Events in the Captain of the Port Buffalo Zone

AGENCY: Coast Guard, DHS.

ACTION: Notice of Enforcement of regulation.

SUMMARY: The Coast Guard will enforce the safety zone for the annual Parade of Lights event in the Captain of the Port of Buffalo zone. Enforcement of this safety zone is necessary to protect the safety of life and property on the navigable waters immediately prior to, during, and immediately after this event. During the enforcement period, no person or vessel may enter the respective safety zone without permission from the Captain of the Port Buffalo or a designated representative.

DATES: The regulations in 33 CFR 165.939, as listed in Table 165.939(b)(6), will be enforced from 8:45 p.m. through 11:15 p.m. on July 22, 2023.

FOR FURTHER INFORMATION CONTACT: If you have questions about this Notice of Enforcement, call or email LT Jared Stevens, Waterways Management Division, U.S. Coast Guard Marine Safety Unit Cleveland; telephone 216-937-0124, email D09-SMB-MSUCLEVELAND-WWM@uscg.mil.

SUPPLEMENTARY INFORMATION: The Coast Guard will enforce a Safety Zone: Annual Events in the Captain of the Port Buffalo Zone listed in 33 CFR 165.939, Table 165.939(b)(6) for the Parade of Lights on July 22, 2023, in Cleveland, Ohio on the Cuyahoga River. Pursuant to 33 CFR 165.23, entry into, transiting, or anchoring within the safety zone during an enforcement period is prohibited unless authorized by the Captain of the Port Buffalo or a designated representative. Those seeking permission to enter the safety zone may request permission from the Captain of Port Buffalo via channel 16, VHF-FM. Requests must be made in advance and approved by the Captain of Port Buffalo before transits will be authorized. Approvals will be granted on a case-by-case basis. Vessels and persons granted permission to enter the safety zone shall obey the directions of the Captain of the Port Buffalo or a designated representative. While within a safety zone, all vessels shall operate at the minimum speed necessary to maintain a safe course.

This Notice of Enforcement is issued under authority of 33 CFR 165.939 and 5 U.S.C. 552 (a). In addition to this Notice of Enforcement in the Federal Register, the Coast Guard will provide the maritime community with advance notification of this enforcement period via Broadcast Notice to Mariners or Local Notice to Mariners. If the Captain of the Port Buffalo determines that the safety zone need not be enforced for the full duration stated in this notice, he or she may use a Broadcast Notice to Mariners to grant general permission to enter the respective safety zone.

Dated: February 23, 2023.
J.B. Bybee,
Commander, U.S. Coast Guard, Captain of the Port Buffalo, By direction.

[FR Doc. 2023-04154 Filed 2-28-23; 8:45 am]

BILLING CODE 9110-04-P